DEPARTMENT OF THE TREASURY

Treasury Advisory Committee on Commercial Operations of the U.S. Customs Service

AGENCY: Departmental Offices, Treasury.

ACTION: Notice of meeting.

SUMMARY: This notice announces the date and time for the next meeting and the provisional agenda for consideration by the Committee.

DATES: The next meeting of the Treasury Advisory Committee on Commercial Operations of the U.S. Customs Service will be held on Friday, September 22, 2000 at 9 a.m. at the La Posada Hotel, located at 1000 Zaragoza Street, Laredo, TX. The duration of the meeting will be approximately four hours, starting at 9 a.m.

FOR FURTHER INFORMATION CONTACT: John P. Simpson, Deputy Assistant Secretary (Regulatory, Tariff and Trade Enforcement), Office of the Under Secretary (Enforcement), Room 4308, Department of the Treasury, 1500 Pennsylvania Avenue, NW, Washington, DC 20220. Tel.: (202) 622-0230.

At the September 22, 2000 session, the Advisory Committee is expected to pursue the following agenda. The agenda may be modified prior to the meeting.

Agenda

(1) MPF—Restructuring for Renewal—draft legislation

(2) OR&R Alternatives to Ruling Process to Achieve Timely Commercial Certainty

(3) CAT Subcommittee: Customs' Response to COAC Comments and Suggestions

(4) Status of HR 4868 Treasury Study and Report on Proposed Subcommittee

(5) Comments on Status and Improvement of Customs Programs

(6) Border Resources Alternatives

(7) 2001-2002 COAC Team

(8) Agenda Items for Next Meeting

SUPPLEMENTARY INFORMATION: The meeting is open to the public; however, participation in the Committee's deliberations is limited to Committee members, Customs and Treasury Department staff, and persons invited to attend the meeting for special presentations. A person other than an Advisory Committee member who wishes to attend the meeting should contact Theresa Manning at (202) 622-0220 or Helen Belt at (202) 622-0230.

Dated: September 13, 2000.
John P. Simpson,
Deputy Assistant Secretary (Regulatory, Tariff, and Trade Enforcement).

[FR Doc. 00-23963 Filed 9-13-00; 5:01 pm]

BILLING CODE 4810-25-M